DEPARTMENT OF HOMELAND SECURITY

Federal Emergency Management Agency

44 CFR Part 65

[Docket No. FEMA-B-7474]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Division Director of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Mobile | Unincorporated areas of Mobile County, (05-04-2236P) | September 21, 2006; September 28, 2006; Press-Register | Mr. John Pafenbach, County Administrator, Mobile County, 205 Government Street, Mobile, AL 36644 | December 28, 2006 | 015008
Arizona:
Greenlee | Town of Clifton, (06-09-B068P) | October 25, 2006; November 1, 2006; Copper Era | The Honorable David McCullar, Mayor, Town of Clifton, P.O. Box 1415, Clifton, AZ 85533 | September 29, 2006 | 040035
Maricopa | Unincorporated areas of Maricopa County, (06-09-B067P) | September 14, 2006; September 21, 2006; Arizona Business Gazette | The Honorable Don Stapley, Chairman, Maricopa County, Board of Supervisors, Administration Building, 301 West Jefferson Street, Tenth Floor, Phoenix, AZ 85003 | December 21, 2006 | 040037
California:
Alameda | City of Livermore, (06-09-BE71P) | September 21, 2006; September 28, 2006; Alameda Times Star | The Honorable Marshall Kamena, Mayor, City of Livermore, 1052 South Livermore Avenue, Livermore, CA 94550 | December 28, 2006 | 060008
Alameda | Unincorporated areas of Alameda County, (06-09-B390P) | September 14, 2006; September 21, 2006; Tri-Valley Herald | The Honorable Keith Carson, President, Alameda County, Board of Supervisors, 1221 Oak Street, Suite 536, Oakland, CA 94612 | August 18, 2006 | 060001
Amador | City of Jackson, (06-09-B819P) | October 20, 2006; October 27, 2006; Amador Ledger Dispatch | The Honorable Al Nunes, Mayor, City of Jackson, 33 Broadway, Jackson, CA 95642 | January 26, 2007 | 060448
Merced | City of Merced, (06-09-B107P) | October 18, 2006; October 25, 2006; Chowchilla News | The Honorable Ellie Wooton, Mayor, City of Merced, 678 West 18th Street, Merced, CA 95340 | January 25, 2007 | 060191
Merced | Unincorporated areas of Merced County, (06-09-B107P) | October 18, 2006; October 25, 2006; Chowchilla News | The Honorable Mike Nelson, Chairman, Merced County, Board of Commissioners, 2222 M Street, Second Floor, Merced, CA 95340 | January 25, 2007 | 060188
Nevada | Town of Truckee, (06-09-B008P) | October 26, 2006; November 2, 2006; The Sierra Sun | The Honorable Beth Ingalls, Mayor, Town of Truckee, 10183 Truckee Airport Road, Truckee, CA 96161 | September 29, 2006 | 060762
Orange | City of San Juan Capistrano, (05-09-0793P) | September 21, 2006; September 28, 2006; The Orange County Register | The Honorable David M. Swerdlin, Mayor, City of San Juan Capistrano City Hall, 32400 Paseo Adelanto, San Juan Capistrano, CA 92675 | August 31, 2006 | 060231
Sacramento | City of Citrus Heights, (06-09-B062P) | October 19, 2006; October 26, 2006; The Daily Recorder | The Honorable Bret Daniels, Mayor, City of Citrus Heights, 6237 Fountain Square Drive, Citrus Heights, CA 95621 | September 22, 2006 | 060765
Sacramento | City of Elk Grove, (06-04-B040P) | September 14, 2006; September 21, 2006; The Daily Recorder | The Honorable Richard Soares, Mayor, City of Elk Grove, 9400 Laguna Palms Way, Elk Grove, CA 95758 | August 25, 2006 | 060767
San Diego | City of La Mesa, (05-09-A362P) | September 21, 2006; September 28, 2006; San Diego Transcript | The Honorable Art Madrid, Mayor, City of La Mesa, 8130 Allison Avenue, La Mesa, CA 92041 | September 5, 2006 | 060292
San Diego | City of San Diego, (05-09-A362P) | September 21, 2006; September 28, 2006; San Diego Transcript | The Honorable Jerry Sanders, Mayor, City of San Diego, 202 C Street, 11th Floor, San Diego, CA 92101 | September 5, 2006 | 060295
San Diego | Unincorporated areas of San Diego County, (07-09-0162X) | October 19, 2006; October 26, 2006; The San Diego Daily Transcript | The Honorable Bill Horn, Chairman, San Diego County Board of Supervisors, 1600 Pacific Highway, San Diego, CA 92123 | February 16, 2007 | 060284
San Luis Obispo | City of San Luis Obispo, (06-09-BA38P) | October 19, 2006; October 26, 2006; The Tribune | The Honorable David F. Romero, Mayor, City of San Luis Obispo City Hall, 990 Palm Street, San Luis Obispo, CA 93401 | January 25, 2007 | 060310
Santa Barbara | Unincorporated areas of Santa Barbara County, (05-09-1158P) | September 21, 2006; September 28, 2006; Santa Barbara News Press | The Honorable Salud Carbajal, Chairman, Santa Barbara County Board of Supervisors, 105 East Anapamu Street, Santa Barbara, CA 93101 | December 28, 2006 | 060331
Santa Barbara | Unincorporated areas of Santa Barbara County, (06-09-B833P) | October 26, 2006; Novermber 2, 2006; Santa Barbara News Press | The Honorable Joni L. Gray, Chairperson, Santa Barbara County, 511 East Lakeside Parkway, Suite 126, Santa Maria, CA 93455 | February 1, 2007 | 060331
Shasta | City of Redding, (06-09-B348P) | September 21, 2006; September 28, 2006; Redding Record Searchlight | The Honorable Ken Murray, Mayor, City of Redding, 777 Cypress Avenue, P.O. Box 496071, Redding, CA 96001 | August 31, 2006 | 060360
Colorado:
Arapahoe | City of Cherry Hills Village, (06-08-B375P) | October 12, 2006; October 19, 2006; The Littleton Independent | The Honorable Mike Wozniak, Mayor, City of Cherry Hills Village, 2450 East Quincy Avenue, Cherry Hills Village, CO 80113 | September 19, 2006 | 080013
Broomfield | City and County of Broomfield, (06-08-B417P) | September 27, 2006; October 4, 2006; Broomfield Enterprise | The Honorable Karen Stuart, Mayor, City and County of Broomfield, One DesCombes Drive, Broomfield, CO 80020 | September 11, 2006 | 085073
Douglas | Unincorporated Areas of Douglas County, (06-08-B443P) | October 12, 2006; October 19, 2006; Douglas County News-Press | The Honorable Walter M. Maxwell, Chairman, Douglas County Board of Commissioners, 100 Third Street, Castle Rock, CO 80104 | January 18, 2007 | 080049
Douglas | City of Lone Tree, (06-08-B443P) | October 12, 2006; October 19, 2006; Douglas County News-Press | The Honorable Jack O'Boyle, Mayor, City of Lone Tree, 9777 South Yosemite Street, Suite 100, Lone Tree, CO 80124 | January 18, 2007 | 080319
Jefferson | City of Arvada, (06-08-B403P) | October 12, 2006; October 19, 2006; The Golden Transcript | The Honorable Ken Fellman, Mayor, City of Arvada, 8101 Ralston Road, Arvada, CO 80002 | January 18, 2007 | 085072
Jefferson | City of Lakewood, (06-08-B318P) | November 9, 2006; November 16, 2006; The Golden Transcript | The Honorable Steve Burkholder, Mayor, City of Lakewood, Lakewood Civic Center South, 480 South Allison Parkway, Lakewood, CO 80226 | February 15, 2007 | 085075
Jefferson | Unincorporated areas of Jefferson County, (06-08-B422P) | September 21, 2006; September 28, 2006; The Golden Transcript | The Honorable J. Kevin McCasky, Chairman, Board of Commissioners, Jefferson County, 100 Jefferson County Parkway, Golden, CO 80419-5550 | December 28, 2006 | 080087
Delaware: New Castle | Unincorporated areas of New Castle County, (06-03-B140P) | October 5, 2006; October 12, 2006; The News Journal | The Honorable Chris Coons, County Executive, New Castle County, 87 Read's Way, New Castle, DE 19720 | January 4, 2007 | 105085
Florida:
Leon | City of Tallahassee, (05-04-1773P) | September 21, 2006; September 28, 2006; Tallahassee Democrat | The Honorable John Marks, Mayor, City of Tallahassee, 300 South Adams Street, Tallahassee, FL 32301 | December 28, 2006 | 120144
Monroe | Unincorporated areas of Monroe County, (06-04-BI38P) | September 21, 2006; September 28, 2006; Key West Citizen | The Honorable Dixie Spehar, Mayor, Monroe County, 2798 Overseas Highway, Suite 300, Marathon, FL 33050 | August 29, 2006 | 125129
Pinellas | City of Clearwater, (06-04-B129X) | September 14, 2006; September 21, 2006; St. Petersburg Times | The Honorable Frank Hibbard, Mayor, City of Clearwater, P.O. Box 4748, Clearwater, FL 33758 | December 21, 2006 | 125096
Polk | Unincorporated Areas of Polk County, (06-04-B694P) | September 21, 2006; September 28, 2006; The Polk County Democrat | Mr. Michael Herr, County Manager, Polk County, P.O. Box 9005, Drawer BC01, Bartow, FL 33831-9005 | August 31, 2006 | 120261
Sarasota | City of Sarasota, (06-04-BH18P) | September 26, 2006; October 3, 2006; Sarasota Herald-Tribune | The Honorable Fred Atkins, Mayor, City of Sarasota, 1565 First Street, Sarasota, FL 34236 | August 28, 2006 | 125150
Seminole | Unincorporated areas of Seminole County, (06-04-BJ43P) | October 19, 2006; October 26, 2006; Orlando Seminole Sentinel | The Honorable Carlton D. Henley, Chairman, Seminole County Board of Commissioners, Seminole County Services Building, 1101 East First Street, Sanford, FL 32771 | October 30, 2006 | 120289
Georgia:
Jackson | Unincorporated areas of Jackson County, (06-04-BQ92P) | September 20, 2006; September 27, 2006; The Jackson Herald | The Honorable Ms. Pat Bell , Chairman, Jackson County Board of Commissioners, 67 Athens Street, Jefferson, GA 30549 | December 27, 2006 | 130345
Walton | Unincorporated areas of Walton County, (05-04-A009P) | October 18, 2006; October 26, 2006; Walton Tribune | The Honorable Kevin W. Little, Chairman, Walton County Board of Commissioners, 303 South Hammond Drive, Monroe, GA 30655 | September 25, 2006 | 130185
Hawaii:
Hawaii | Unincorporated areas of Hawaii County, (06-09-B247P) | September 14, 2006; September 21, 2006; Hawaii Tribune-Herald | The Honorable Harry Kim Mayor, County of Hawaii, 25 Aupuni Street, Room 215, Hilo, HI 96720 | December 21, 2006 | 155166
Hawaii | Unincorporated areas of Hawaii County, (06-09-B685P) | October 5, 2006; October 12, 2006; Hawaii Tribune-Herald | The Honorable Harry Kim, Mayor, County of Hawaii, 25 Aupuni Street, Room 215, Hilo, HI 96720 | January 11, 2007 | 155166
Illinois:
De Kalb | Village of Kirkland, (06-05-BF46P) | October 19, 2006; October 26, 2006; Daily Chronicle | The Honorable Michael A Becker, Village President, Village of Kirkland, 511 West Main Street, Kirkland, IL 60146 | January 25, 2006 | 170186
De Kalb | Unincorporated areas of De Kalb County, (06-05-BF46P) | October 19, 2006; October 26, 2006; Daily Chronicle | Mr. Raymond R. Bockman, County Administrator, De Kalb County, 200 North Main Street, Sycamore, IL 60178 | January 25, 2007 | 170808
Kane | Village of Hampshire, (06-05-BC30P) | September 21, 2006; September 28, 2006; Elburn Herald | Mr. Jeffrey Magnussen, Village President, Village of Hampshire, Village Hall, 234 South State St., P.O. Box 457, Hampshire, IL 60140 | December 28, 2006 | 170327
Kane | Village of Hampshire, (06-05-BT15P) | October 12, 2006; October 19, 2006; Elburn Herald | The Honorable Jeffrey Magnussen, Village President, Village of Hampshire, P.O. Box 457, Hampshire, IL 60140 | January 18, 2007 | 170327
Kane | Unincorporated areas of Kane County, (06-05-BT15P) | October 12, 2006; October 19, 2006; Elburn Herald | The Honorable Karen McConnaughay, Chairman, Kane County Board, 719 South Batavia Avenue, Building A, Geneva, IL 60134 | January 18, 2007 | 170896
Will | Village of Frankfort, (05-05-A220P) | September 14, 2006; September 21, 2006; Daily Southtown | The Honorable Raymond Rossi, Mayor, Village of Frankfort, 432 West Nebraska Street, Frankfort, IL 60423 | August 29, 2006 | 170701
Will | City of Naperville, (06-05-B639P) | October 12, 2006; October 19, 2006; Naperville Sun | The Honorable A. George Pradel, Mayor, City of Naperville, 400 South Eagle Street, Naperville, IL 60566 | January 18, 2007 | 170213
Will | Unincorporated areas of Will County | October 12, 2006; October 19, 2006; Naperville Sun | The Honorable Lawrence M. Walsh, Will County Executive, 302 North Chicago Street, Joliet, IL 60432 | January 18, 2007 | 170695
Indiana:
Marion | City of Indianapolis, (06-05-B545P) | October 19, 2006; October 26, 2006; Indianapolis Star | The Honorable Bart Peterson, Mayor, City of Indianapolis, 2501 City-County Building, 200 East Washington Street, Indianapolis, IN 46204 | October 25, 2006 | 180159
Marion | Town of Speedway, (06-05-B545P) | October 19, 2006; October 26, 2006; Indianapolis Star | Mr. Bruce Sherman, Town Manager, Town of Speedway, 1450 North Lynhurst Drive, Speedway, IN 46224 | October 25, 2006 | 180162
Kansas: Douglas | City of Lawrence, (06-07-B014P) | September 21, 2006; September 28, 2006; Lawrence Daily Journal-World | The Honorable Mike Amyx, Mayor, City of Lawrence, P.O. Box 708, Lawrence, KS 66044 | August 30, 2006 | 200090
Maine: Cumberland | Town of Windham, (06-01-B717P) | October 19, 2006; October 26, 2006; Portland Press Herald | The Honorable John MacKinnon, Council Chairman, Town of Windham, Eight School Road, Windham, ME 04062 | January 25, 2007 | 230189
Massachusetts:
Barnstable | Town of Falmouth, (06-01-B133P) | August 24, 2006; August 31, 2006; Cape Cod Times | Mr. Robert L. Whritenour, Jr., Town Administrator, Town of Falmouth, 59 Town Hall Square, Falmouth, MA 02540 | August 8, 2006 | 255211
Plymouth | Town of Scituate, (06-01-B143P) | September 14, 2006; September 21, 2006; The Patriot Ledger | Mr. Richard Agnew, Town Administrator, Town of Scituate, Scituate Town Hall, 600 Chief Justice Cushing Highway, Scituate, MA 02066 | August 23, 2006 | 250282
Maryland:
Carroll | Unincorporated areas of Carroll County, (05-03-A533P) | October 19, 2006; October 26, 2006; Carroll County Times | The Honorable Julia W. Gouge, President, Carroll County, Board of Commissioners, Carroll County Office Building, 225 North Center Street, Westminster, MD 21157 | January 25, 2007 | 240015
Washington | Town of Boonsboro, (06-03-B016P) | October 5, 2006; October 12, 2006; Hagerstown Herald-Mail | The Honorable Charles F. Kauffman, Jr., Mayor, Town of Boonsboro, 21 North Main Street, Boonsboro, MD 21713 | January 11, 2007 | 240071
Washington | Unincorporated areas of Washington County, (06-03-B016P) | October 5, 2006; October 12, 2006; Hagerstown Herald-Mail | Mr. Rodney Shoop, County Administrator, Washington County, 100 West Washington Street, Hagerstown, MD 21740 | January 11, 2007 | 240070
Minnesota: Hennepin | City of Plymouth, (05-05-3454P) | August 24, 2006; August 31, 2006; Minneapolis Star Tribune | The Honorable Judy Johnson, Mayor, City of Plymouth, 3400 Plymouth Blvd., Plymouth, MN 55447 | July 28, 2006 | 270179
Mississippi: Rankin | City of Pearl, (06-04-B935P) | September 20, 2006; September 27, 2006; Rankin County News | The Honorable Jimmy Foster, Mayor, City of Pearl, 2420 Old Brandon Rd, Pearl, MS 39208 | December 27, 2006 | 280145
Missouri:
Clay | Village of Claycomo, (06-07-BD06P) | October 19, 2006; October 26, 2006; The Sun-Tribune | Ms. Lois Anderson, Village Administrator, Village of Claycomo, 115 East 69 Highway, Claycomo, MO 64119 | September 29, 2006 | 290089
Clay | City of Liberty, (06-07-BD06P) | October 19, 2006; October 26, 2006; The Sun-Tribune | The Honorable Robert T. Steinkamp, Mayor, City of Liberty, 101 East Kansas Street, Liberty, MO 64068 | September 29, 2006 | 290096
New Mexico:
Bernalillo | City of Albuquerque, (06-06-B638P) | October 12, 2006; October 19, 2006; The Albuquerque Journal | The Honorable Martin J. Chavez, Mayor, City of Albuquerque, P.O. Box 1293, Albuquerque, NM 87103 | September 20, 2006 | 350002
Santa Fe | Unincorporated areas of Santa Fe County, (06-06-B296P) | September 21, 2006; September 28, 2006; The Santa Fe New Mexican | Mr. Gerald T.E. Gonzalez, County Manager, Santa Fe County, P.O. Box 276, Santa Fe, NM 87504 | August 29, 2006 | 350069
North Carolina:
Beaufort | Unincorporated areas of Beaufort County, (06-04-BP18P) | October 19, 2006; October 26, 2006; Washington Daily News | Mr. Paul Spruill, County Manager, Beaufort County, P.O. Box 1027, Washington, NC 27889 | September 25, 2006 | 370013
Beaufort | City of Washington, (06-04-BP18P) | October 19, 2006; October 26, 2006; Washington Daily News | The Honorable Judy Jennette, Mayor, City of Washington, P.O. Box 1988, Washington, NC 27889 | September 25, 2006 | 370017
Mecklenburg | City of Charlotte, (06-04-BP55P) | October 19, 2006; October 26, 2006; The Charlotte Observer | The Honorable Patrick McCrory, Mayor, City of Charlotte, 600 East Fourth Street, Charlotte, NC 28202 | September 29, 2006 | 370159
Guilford | City 0f Greensboro, (05-04-A010P) | July 20, 2006; July 27, 2006; News & Record | The Honorable Keith Holliday, Mayor, City of Greensboro, P.O. Box 3136, Greensboro, NC 27402 | October 26, 2006 | 375351
North Dakota: Morton | City of Mandan, (06-08-B460P) | September 21, 2006; September 28, 2006; Bismarck Tribune | The Honorable Ken LaMont, Mayor, City of Mandan, 205 Second Avenue, Northwest, Mandan, ND 58554 | August 29, 2006 | 380072
Ohio: | Delaware | City of Powell, (06-05-BJ86P) | October 19, 2006; October 26, 2006; Delaware Gazette | The Honorable Don Grubbs, Mayor, City of Powell, 47 Hall Street, Powell, OH 43065 | January 25, 2007 | 390626
Fairfield | Unincorporated areas of Fairfield County, (06-05-BA30P) | October 19, 2006; October 26, 2006; Lancaster Eagle Gazette | The Honorable Jon Myers, County Commissioner, Board of Commissioners, Fairfield County, 210 East Main Street, Room 301, Lancaster, OH 43130 | January 25, 2007 | 390158
Franklin | City of Columbus, (05-05-0944P) | September 21, 2006; September 28, 2006; The Columbus Dispatch | The Honorable Michael B. Coleman, Mayor, City of Columbus, 90 West Broad Street, Columbus, OH 43215 | December 28, 2006 | 390170
Franklin | Unincorporated areas of Franklin County, (05-05-0944P) | September 21, 2006; September 28, 2006; The Columbus Dispatch | The Honorable Paula Brooks, President, Franklin County, Board of Commissioners, 373 South High Street, Columbus, OH 43215 | December 28, 2006 | 390167
Oklahoma;
Cleveland | City of Moore, (05-06-0578P) | October 19, 2006; October 26, 2006; The Norman Transcript | The Honorable Glenn Lewis, Mayor, City of Moore, 301 North Broadway, Moore, OK 73160 | September 29, 2006 | 400044
Oklahoma | City of Edmond; (06-06-B417P) | October 19, 2006; October 26, 2006; The Edmond Sun | The Honorable Saundra G. Naifeh, Mayor, City of Edmond, P.O. Box 2970, Edmond, OK 73083-2970 | January 25, 2007 | 400252
Oklahoma | City of Edmond, (06-06-BD47P) | October 26, 2006; November 2, 2006; The Edmond Sun | The Honorable Saundra Naifeh, Mayor, City of Edmond, P.O. Box 2970, Edmond, OK 73083 | February 1, 2007 | 400252
Tulsa | City of Broken Arrow, (06-06-BE22P) | October 19, 2006; October 26, 2006; Tulsa World | The Honorable Richard Carter, Mayor, City of Broken Arrow, P.O. Box 610, Broken Arrow, OK 74012 | January 25, 2007 | 400236
Oregon: Jackson | City of Jacksonville, (06-10-B002P) | October 12, 2006; October 19, 2006; Medford Mail Tribune | The Honorable James W. Lewis, Mayor, City of Jacksonville, P.O. Box 7, Jacksonville, OR 97530 | January 18, 2007 | 410095
Pennsylvania:
Chester | Township of Sadsbury, (06-03-B160P) | October 19, 2006; October 26, 2006; Daily Local | The Honorable Dale Hensel, Chairman, Board of Supervisors, Sadsbury Township, 6 Ramsey Alley, P.O. Box 261, Sadsburyville, PA 19369 | September 29, 2006 | 421488
Chester | Township of West Goshen, (05-03-0848P) | September 21, 2006; September 28, 2006; Daily Local | The Honorable Edward G. Meakim, Jr., Chairman, West Goshen Township Board of Supervisors, 1025 Paoli Pike, West Chester, PA 19380-4699 | December 28, 2006 | 420293
Delaware | Borough of Collingsdale, (05-03-A446P) | November 2, 2006; November 9, 2006; Delaware County Times | The Honorable Frank C. Kelly, Mayor, Borough of Collingdale, 800 MacDade Boulevard, Colling-dale, PA 19023 | October 10, 2006 | 420408
York | Township of Penn, (05-03-0718P) | October 12, 2006; October 19, 2006; The York Dispatch | The Honorable Joseph A. Klunk, President, Penn Township, Board of Commissioners, Penn Township Municipal Building, 20 Wayne Avenue, Hanover, PA 17331 | January 18, 2007 | 421025
South Carolina:
Berkeley | Unincorporated areas of Berkeley County, (06-04-BO05P | October 25, 2006; November 1, 2006; Berkeley Independent | The Honorable James H. Rozier, Jr., Supervisor and County Council Chairman, Berkeley County, 1003 Highway 52, Moncks Corner, SC 29461 | September 28, 2006 | 450029
Greenville | Unincorporated areas of Greenville County, (06-04-B141P) | September 22, 2006; September 28, 2006; Greenville News | The Honorable Butch Kirven, Chairman, Greenville County Council, Seven Ralph Hendricks Drive, Simpsonville, SC 29681 | December 28, 2006 | 450089
Lexington | Unincorporated areas of Lexington County, (06-04-BM33P) | October 5, 2006; October 12, 2006; The Lexington County Chronicle | Ms. Katherine Doucett, County Administrator, Lexington County, 212 South Lake Drive, Lexington, SC 29072 | January 11, 2007 | 450129
Lexington | Unincorporated areas of Lexington County, (06-04-BQ42P) | October 19, 2006; October 26, 2006; Lexington County Chronicle | Ms. Katherine Doucett, County Administrator, Lexington County, 212 South Lake Drive, Lexington, SC 29072 | January 25, 2007 | 450129
Richland | Unincorporated areas of Richland County, (06-04-BT87P) | October 20, 2006; October 27, 2006; Columbia Star | The Honorable Anthony G. Mizzell, Chair, Richland County Council, 106 Wembley Street, Columbia, SC 29209 | September 25, 2006 | 450170
Tennessee:
Hamilton | City of Chattanooga, (06-04-BV55P) | October 26, 2006; November 2, 2006; Chattanooga Times Free Press | The Honorable Ron Littlefield, Mayor, City of Chattanooga, City Hall, Suite 100, 101 East 11th Street, Chattanooga, TN 37402 | February 1, 2007 | 470072
Williamson | City of Brentwood, (06-04-C457P) | October 19, 2006; October 26, 2006; Tennessean/Williamson Journal | The Honorable Brian Joe Sweeney, Mayor, City of Brentwood, P.O. Box 788, Brentwood, TN 37024-0788 | January 25, 2007 | 470205
Texas:
Brazos | City of Bryan, (05-06-0891P) | October 19, 2006; October 26, 2006; The Eagle | The Honorable Ernie Wentrcek, Mayor, City of Bryan, 300 South Texas Avenue, Bryan, TX 77803 | January 25, 2007 | 480082
Collin | City of McKinney, (06-06-BD88P) | September 21, 2006; September 28, 2006; McKinney Courier Gazette | The Honorable Bill Whitfield, Mayor, City of McKinney, 222 North Tennessee, McKinney, TX 75069 | October 2, 2006 | 480135
Collin | City of Princeton, (06-06-B820P) | September 21, 2006; September 28, 2006; Princeton Herald | The Honorable Kathy Davis, Mayor, City of Princeton, P.O. Box 970 Princeton, TX 75407 | August 30, 2006 | 480757
Dallas | City of Rowlett, (06-06-B822P) | September 8, 2006; September 15, 2006; Rowlett Lakeshore Times | The Honorable C. Shane Johnson, Mayor, City of Rowlett, P.O. Box 99, Rowlett, TX 75030-0099 | December 15, 2006 | 480185
Dallas | City of Grand Prairie, (06-06-B658P) | September 21, 2006; September 28, 2006; The Daily Commercial Record | The Honorable Charles England, Mayor, City of Grand Prairie, 317 College Street, Grand Prairie, TX 75050 | December 28, 2006 | 485472
Denton | Town of Bartonville, (06-06-B742P) | October 19, 2006; October 26, 2006; Denton Record-Chronicle | The Honorable Ron Robertson, Mayor, Town of Bartonville, 1941 East Jeter Road, Bartonville, TX 76226 | September 28, 2006 | 481501
Denton | City of Denton, (06-06-BD25P) | October 19, 2006; October 26, 2006; Denton Record-Chronicle | The Honorable Perry McNeill, Mayor, City of Denton, 215 East McKinney Street, Denton, TX 76201 | September 28, 2006 | 480194
Denton | City of Fort Worth, (06-06-B018P) | September 21, 2006; September 28, 2006; Northeast Tarrant Star-Telegram | The Honorable Michael J. Moncrief, Mayor, City of Fort Worth, 1000 Throckmorton Street, Fort Worth, TX 76102 | August 31, 2006 | 480596
Denton | City of The Colony, (05-06-A219P) | October 19, 2006; October 26, 2006; Denton Record-Chronicle | The Honorable John Dillard, Mayor, City of The Colony, 6800 Main Street, The Colony, TX 75056 | January 25, 2007 | 481581
Denton | Unincorporated areas of Denton County, (06-06-BD25P) | October 19, 2006; October 26, 2006; Denton Record-Chronicle | The Honorable Mary Horn, Denton County Judge, 110 West Hickory Street, Second Floor, Denton, TX 76201 | September 28, 2006 | 480774
Fort Bend | Fort Bend County L.I.D. No. 7, (06-06-B073P) | October 19, 2006; October 26, 2006; Fort Bend Herald | Mr. Epifanio Salazar, P.E., Board President, Fort Bend County L.I.D. No. 7, c/o Schwartz, Page & Harding, L.L.P., 1300 Post Oak Boulevard, Suite 1400, Houston, TX 77027 | January 25, 2007 | 481594
Fort Bend | City of Sugar Land, (06-06-B073P) | October 19, 2006; October 26, 2006; Fort Bend Herald | The Honorable David G. Wallace, Mayor, City of Sugar Land, P.O. Box 110, Sugar Land, TX 77487 | January 25, 2007 | 480234
Fort Bend | Unincorporated areas of Fort Bend County, (06-06-B073P) | October 19, 2006; October 26, 2006; Fort Bend Herald | The Honorable Robert E. Hebert, PhD, Fort Bend County Judge, 301 Jackson Street, Suite 719, Richmond, TX 77469 | January 25, 2007 | 480228
Harris | Unincorporated areas of Harris County, (06-06-B330P) | October 26, 2006; November 2, 2006; Houston Chronicle | The Honorable Robert Eckels, Harris County Judge, 1001 Preston, Suite 911, Houston, TX 77002 | September 29, 2006 | 480287
Hays | City of Kyle, (06-06-B463P) | October 18, 2006; October 25, 2006; The Free Press | The Honorable Miguel Gonzalez, Mayor, City of Kyle, P.O. Box 40, Kyle, TX 78640 | January 25, 2007 | 481108
Johnson | City of Burleson, (06-06-A711P) | October 19, 2006; October 26, 2006; Fort Worth Star-Telegram | The Honorable Kenneth Shetter, Mayor, City of Burleson, 141 West Renfro Street, Burleson, TX 76028 | January 25, 2007 | 485459
McClellan | City of Waco, (06-06-B021P) | September 14, 2006; September 21, 2006; Waco Tribune-Herald | The Honorable Virginia DuPuy, Mayor, City of Waco, P.O. Box 2570, Waco, TX 76702-2570 | December 21, 2006 | 480461
Rockwall | Unincorporated areas of Rockwall County, (06-06-B819P) | September 20, 2006; September 27, 2006; Royse City Herald-Banner | The Honorable Bill Bell, Rockwall County Judge, 101 East Rusk Street, Suite 202, Rockwall, TX 75087 | December 28, 2006 | 480543
Tarrant | City of Blue Mound, (06-06-BE05P) | October 19, 2006; October 26, 2006; Fort Worth Star-Telegram | The Honorable Jace Preston, Mayor, City of Blue Mound, 301 Blue Mound Road, Fort Worth, TX 76131 | January 25, 2007 | 480587
Tarrant | City of Fort Worth, (05-06-A327P) | May 11, 2006; May 18, 2006; Fort Worth Star-Telegram | The Honorable Michael J. Moncrief, Mayor, City of Fort Worth, 1000 Throckmorton Street, Fort Worth, TX 76102 | August 17, 2006 | 480596
Tarrant | City of Fort Worth, (06-06-A711P) | October 19, 2006; October 26, 2006; Fort Worth Star-Telegram | The Honorable Michael J Moncrief, Mayor, City of Fort Worth, 1000 Throckmorton Street, Fort Worth, TX 76102 | January 25, 2007 | 480596
Tarrant | City of Fort Worth, (06-06-B569P) | May 18, 2006; May 25, 2006; Fort Worth Star-Telegram | The Honorable Michael J. Moncrief, Mayor, City of Fort Worth, 1000 Throckmorton Street, Fort Worth, TX 76102-6311 | August 24, 2006 | 480596
Tarrant | City of Fort Worth, (06-06-BB25P) | October 19, 2006; October 26, 2006; Fort Worth Star-Telegram | The Honorable Michael J. Moncrief, Mayor, City of Fort Worth, 1000 Throckmorton Street, Fort Worth, Texas 76102 | September 28, 2006 | 480596
Tarrant | City of Fort Worth, (06-06-BC39P) | September 14, 2006; September 21, 2006; Northeast Tarrant Star-Telegram | The Honorable Michael J. Moncrief, Mayor, City of Fort Worth 1000 Throckmorton Street, Fort Worth, TX 76102 | December 21, 2006 | 480596
Tarrant | City of Fort Worth, (06-06-BE05P) | October 19, 2006; October 26, 2006; Fort Worth Star-Telegram | The Honorable Michael J. Moncrief, Mayor, City of Fort Worth, 1000 Throckmorton Street, Fort Worth, TX 76102 | January 25, 2007 | 480596
Tarrant | City of Fort Worth, (06-06-BE06P) | September 21, 2006; September 28, 2006; Northeast Tarrant Star-Telegram | The Honorable Michael J. Moncrief, Mayor, City of Fort Worth, 1000 Throckmorton Street, Fort Worth, TX 76102 | December 28, 2006 | 480596
Tarrant | City of Grapevine, (06-06-B514P) | September 14, 2006; September 21, 2006; Northeast Tarrant Star-Telegram | The Honorable William D. Tate, Mayor, City of Grapevine, P.O. Box 95104, Grapevine, TX 76099 | December 21, 2006 | 480598
Tarrant | City of North Richland Hills, (06-06-B788P) | September 21, 2006; September 28, 2006; Dallas Morning News | The Honorable Oscar Trevino, Mayor, City of North Richland Hills, P.O. Box 820609, North Richland Hills, TX 76182-0609 | August 30, 2006 | 480607
Tarrant | Unincorporated areas of Tarrant County, (05-06-A327P) | May 11, 2006; May 18, 2006; Fort Worth Star-Telegram | The Honorable Tom Vandergriff, Tarrant County Judge, 100 East Weatherford, Fort Worth, TX 76196 | August 17, 2006 | 480582
Tarrant | Unincorporated areas of Tarrant County, (06-06-A711P) | October 19, 2006; October 26, 2006; Fort Worth Star-Telegram | The Honorable Tom Vandergriff, Tarrant County Judge, 100 East Weatherford, Suite 502A, Fort Worth, TX 76196 | January 25, 2007 | 480582
Tarrant | Unincorporated areas of Tarrant County, (06-06-BB25P) | October 19, 2006; October 26, 2006; Fort Worth Star-Telegram | The Honorable Tom Vandergriff, Tarrant County Judge, Tarrant County Commissioners Court, 100 East Weatherford Street, Room 502A, Fort Worth, TX 76196 | September 28, 2006 | 480582
Washington | City of Brenham, (06-06-B038P) | September 21, 2006; September 28, 2006; Brenham Banner-Press | The Honorable Milton Tate, Mayor, City of Brenham, P.O. Box 1059, Brenham, TX 77833 | August 28, 2006 | 480648
Virgina:
Fauquier | Unincorporated areas of Fauquier County, (05-03-0241P) | September 13, 2006; September 20, 2006; Fauquier Citizen | Mr. Paul McCulla, County Administrator, Fauquier County, 10 Hotel Street, Suite 204, Warrenton VA 20186 | December 20, 2006 | 510055
Henry | Unincorporated areas of Henry County, (06-03-B321P) | October 27, 2006; November 3, 2006; Martinsville Bulletin | Mr. Benny Summerlin, County Administrator, Henry County, P.O. Box 7, Collinsville, VA 24078 | February 2, 2007 | 510078
Prince William | Town of Haymarket, (05-03-A398P) | September 28, 2006; October 5, 2006; Potomac News & Manassas Journal Messenger | The Honorable Pamela E. Stutz, Mayor, Town of Haymarket, P.O. Box 367, Haymarket, VA 20168 | January 4, 2007 | 510121
Washington:
Pierce | Unincorporated areas of Pierce County, (06-10-B193P) | September 21, 2006; September 28, 2006; The News Tribune | The Honorable Shawn Bunney, Pierce County Council Chairman, 930 Tacoma Avenue South, County-City Building, Room 1046, Tacoma, WA 98402-2176 | August 30, 2006 | 530138
Yakima | City of Toppenish, (06-10-B462P) | November 2, 2006; November 9, 2006; Yakima Herald Republic | The Honorable Bill Rogers, Mayor, City of Toppenish, Toppenish City Hall, 21 West First Avenue, Toppenish, WA 98948 | December 14, 2006 | 530228
Yakima | Unincorporated areas of Yakima County, (06-10-B462P) | November 2, 2006; November 9, 2006; Yakima Herald Republic | The Honorable Jesse Palacios, Chairman, Yakima County, Board of Commissioners, 128 North Second Street, Yakima, WA 98901 | December 14, 2006 | 530217
Wyoming:
Laramie | City of Cheyenne, (06-08-B409P) | September 21, 2006; September 28, 2006; Wyoming Tribune-Eagle | The Honorable Jack R. Spiker, Mayor, City of Cheyenne, 2101 O'Neil Avenue, Room 310, Cheyenne, WY 82001 | August 29, 2006 | 560030
Laramie | Unincorporated areas of Laramie County, (06-08-B409P) | September 21, 2006; September 28, 2006; Wyoming Tribune-Eagle | The Honorable Diane Humphrey, Chairman, Laramie County, Board of Commissioners, 309 West 20th Street, Cheyenne, WY 82001 | August 29, 2006 | 560029

(Catalog of Federal Domestic Assistance No. 83.100, “Flood Insurance.”)

Dated: November 30, 2006.
David I. Maurstad,
Director, Mitigation Division, Federal Emergency Management Agency, Department of Homeland Security.

[FR Doc. E6-20786 Filed 12-6-06; 8:45 am]

BILLING CODE 9110-12-P